FEDERAL TRADE COMMISSION

Granting of Request for Early Termination of the Waiting Period Under the Premereger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—11/21/2005
20051562 | Tata Sons Limited | TLGB Acquisition Ltd | Teleglobe International Holdings Ltd.
20060129 | James Ratcliffe | BP p.l.c | Innovene LLC and other entities.
20060180 | Questor Partners Fund II, L.P. | Rex S. Butler | Fish House Foods, Inc.
20060181 | Questor Partners Fund II, L.P. | Ronald Jeffrey Butler & Carrie Krenzel Butler | Fish House Foods, Inc.
20060185 | American Capital Strategies, Ltd. | The Meadows of Wickenburg, L.P. | The Meadows of Wickenburg, L.P.
20060186 | ABRY Partners, V, L.P. | 2000 Riverside Capital Appreciation Fund, L.P | CapRock Holdings, Inc.
20060187 | Monitor Clipper Equity Partners II, L.P | Michael Keiser | Recycled Paper Greeting, Inc., RPG Holdings, Inc.
20060188 | Monitor Clipper Equity Partners II, L.P | Philip Friedmann | Recycled Paper Greeting, Inc., RPG Holdings, Inc.
20060190 | The Timberland Company | Robert A. Fox | Smartwool Corporation.
20060192 | American Capital Strategies, Ltd. | Atlantic Equity Partners III, L.P. | Ranpak Holding Corporation.
20060193 | Elevation Partners, L.P. | Homestore, Inc | Homestore, Inc.
20060195 | Aurora Equity Partners III, L.P. | Cortec Group Fund III, L.P. | New Axia Holdings, Inc.
20060200 | Trinidad Energy Services Income Trust | Cheyenne Parent, Inc | Cheyenne Drilling, L.P.
20060202 | J.W. Childs Equity Partners III, L.P. | W/S Packaging Group, Inc | W/S Packaging Group, Inc.
20060207 | Occidental Petroleum Corporation | Vintage Petroleum, Inc | Vintage Petroleum, Inc.
Transactions Granted Early Termination—11/22/2005
20060103 | Livingston International Income Fund | PBB Global Logistics Income Fund | PBB Global Logistics Income Fund.
20060189 | Wellspring Capital Partners III, L.P. | Sam L. Susser | Susser Holdings, L.L.C.
20060197 | Provident Energy Trust | EnCana Corporation | 1140102 Alberta Ltd., EnCana Kerrobert Pipelines Limited, EnCana Midstream Inc., WD Energy Services, Inc.
20060198 | Houlihan Lockey Howard & Zukin Inc. | ORIX Corporation | ORIX Finance Corp., ORIX Structured Finance LLC.
20060199 | ORIX Corporation | Houlihan Lokey Howard & Zukin Inc | Houlihan Lokey Howard & Zukin Inc.
Transactions Granted Early Termination—11/23/2005
20060102 | New Times Holding, LLC | NewCo LLC | NewCo LLC.
20060191 | GMM Capital LLC | Goody's Family Clothing, Inc | Goody's Family Clothing, Inc.
20060213 | Telefonaktiebolaget LM Ericsson | Marconi Corporation plc | Marconi Communications Federal, Inc., Marconi Communications, Inc., Marconi Intellectual Property (Ringfence) Inc., Marconi Intellectual Property (US) Inc., Metapath Software International, Inc., Metapath Software International (US), Inc.
Transactions Granted Early Termination—11/28/2005
20060126 | Asurion Corporation | DST Systems, Inc | DST Lock/Line, Inc.
20060127 | DST Systems, Inc. | Asurion Corporation | Asurion Corporation.
20060154 | Castlerigg International Limited | GenCorp Inc | GenCorp Inc.
20060184 | American Capital Strategies, Ltd. | DelStar Holding Corp | DelStar Holding Corp.
20060203 | General Motors Corporation | ProAssurance Company | MEEMIC Insurance Company, MEEMIC Insurance Services Corporation.
20060216 | Astellas Pharma Inc. | Theravance, Inc | Theravance, Inc.
20060223 | Marathon Fund Limited Partnership V | Transport Corporation of America, Inc | Transport Corporation of America, Inc.
20060225 | Formosa Plastics Corporation | New Mighty U.S. Trust | Formosa Plastics Corporation, U.S.A.
20060226 | New Mighty U.S. Trust | Formosa Plastics Corporation | Formosa Plastics Corporation, America.
20060227 | Mr. Sumner M. Redstone | CSTV Networks, Inc. | CSTV Networks, Inc.
20060228 | BD Investment Holdings Inc. | Todd A. Robinson | LPL Holdings, Inc.
20060230 | Citigroup Inc. | Alcoa Inc | SGS, SGS Canada, SGS MX, SGS UK.
20060233 | Robert H. Castellini | The Cincinnati Reds LLC | The Cincinnati Reds LLC.
20060234 | Alan D. Schwartz | The Bear Stearns Companies, Inc | The Bear Stearns Companies, Inc.
Transactions Granted Early Termination—11/29/2005
20051699 | Alfa Laval AB | Dover Corporation | Delaware Capital Formation Inc., Tranter PHE, Inc.
20060171 | Peter R. Kellogg | SIRVA, Inc | National Association of Independent Truckers, LLC (NAIT), Transguard Insurance Company of America Inc. (Transguard), Vanguard Insurance Agency, Inc. (Vanguard).
20060177 | Don H. Barden | Trump Entertainment Resorts, Inc | Trump Indiana, Inc.
20060178 | Icahn Partners LP | Fairmont Hotels & Resorts, Inc | Fairmont Hotels & Resorts, Inc.
20060179 | Icahn Partners Master Fund LP | Fairmont Hotels & Resorts, Inc | Fairmont Hotels & Resorts, Inc.
Transactions Granted Early Termination—11/30/2005
20060155 | SanDisk Corporation | Matrix Semiconductor, Inc | Matrix Semiconductor, Inc.
20060182 | ValueAct Capital Master Fund, L.P | The Reynolds and Reynolds Company | The Reynolds and Reynolds Company.
20060201 | MediaNews Group, Inc. | Gannett Co., Inc | Texas-New Mexico Newspapers Partnership.
20060221 | Autonomy Corporation plc | Verity, Inc | Verity, Inc.
Transactions Granted Early Termination—12/01/2005
20060196 | Johnson & Johnson | Biovail Corporation | Biovail Laboratories International SRL.

FOR FURTHER INFORMATION CONTACT: Sandra M. Peay, Contact Representative or Renee Hallman, Contact Representative. Federal Trade Commission, Premerger Notification Office, Bureau of Competition, Room H-303, Washington, DC 20580, (202) 326-3100.

By Direction of the Commission.
Donald S. Clark,
Secretary.

[FR Doc. 05-24357 Filed 12-21-05; 8:45 am]

BILLING CODE 6750-01-M